DEPARTMENT OF THE INTERIOR

Fish and Wildlife Service

[FWS-HQ-ES-2024-N027; FF09E41000 245 FXES11130900000]

Endangered Species Act; Issuance of Enhancement of Survival and Incidental Take Permits for Safe Harbor Agreements, Candidate Conservation Agreements, Conservation Plans, and Scientific Activities; January 1, 2023, Through December 31, 2023

AGENCY: Fish and Wildlife Service, Interior.

ACTION: Notice.

SUMMARY: We, the U.S. Fish and Wildlife Service, in accordance with the Endangered Species Act (ESA), provide a list to the public of permits we issued under the ESA during calendar year 2023 for candidate conservation agreements with assurances, safe harbor agreements, habitat conservation plans, and scientific activities. With some exceptions, the ESA prohibits take of listed species unless a Federal permit is issued that authorizes or exempts the taking under the ESA.

FOR FURTHER INFORMATION CONTACT: For general information about the ESA permit process, contact Amanda Murnane, via phone at 703-358-2469 or viaemailatamanda_murnane@fws.gov. For information on specific permits, see the contact information for the applicable region under Permits Issued. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), are publishing this notice in order to provide lists to the public of the permits we issued during calendar year 2023 under sections 10(a)(1)(A) and 10(a)(1)(B) of the Endangered Species Act of 1973 (ESA; 16 U.S.C. 1531 et seq.), as amended. We are publishing the lists of section 10(a)(1)(A) permits in accordance with section 10(d) of the ESA. We are publishing the lists of section 10(a)(1)(B) permits in accordance with chapter 16 of the Habitat Conservation Planning and Incidental Take Permit Processing Handbook, developed by the Service in cooperation with the National Marine Fisheries Service, and available at https://www.fws.gov/media/habitat-conservation-planning-and-incidental-take-permit-processing-handbook (December 21, 2016; 81 FR 93702).

With some exceptions, the ESA prohibits take of listed species unless a Federal permit is issued that authorizes the taking, or the take is exempted through section 7 of the ESA. Under section 10(a)(1)(A) of the ESA, we issue scientific permits and enhancement of survival permits in conjunction with conservation agreements (e.g., Candidate Conservation Agreements with Assurances or CCAAs, and Safe Harbor Agreements or SHAs). Section 10(a)(1)(B) permits authorize take of listed species incidental to otherwise lawful activities associated with conservation plans (also known as habitat conservation plans or HCPs). We provide these lists to the public as a summary of our permit issuances for CCAAs, SHAs, HCPs, and scientific permits for calendar year 2023.

We recently revised the implementing regulations for ESA section 10(a) related to enhancement of survival permits supported by SHAs and CCAAs (50 CFR 17.22(c) and (d) and 50 CFR 17.32(c) and (d)) to combine the SHA and CCAA into one type of conservation agreement, called a conservation benefit agreement (89 FR 26070; April 12, 2024). The permits listed in this notice are not affected by this change, as they were all issued prior to May 13, 2024, the effective date of the regulation revisions.

Background

Under the authority of section 10(a)(1)(A) of the ESA, we have issued enhancement of survival permits to conduct activities that provide a conservation benefit for endangered or threatened species, or for unlisted species should they become listed in the future, in response to permit applications that we received in conjunction with a SHA or a CCAA.

Scientific permits have been issued under ESA section 10(a)(1)(A) to allow for take as part of activities conducted for scientific purposes of listed species (e.g., scientific research in order to understand better the species' long-term survival needs).

Under ESA section 10(a)(1)(B), we may issue permits for any taking otherwise prohibited by ESA section 9 if such taking is incidental to, and not the purpose of, carrying out an otherwise lawful activity (known as an incidental take permit (ITP)) and the permit applicant submits a conservation plan or HCP that meets the permit issuance criteria under section 10(a)(2)(B). Typically, applicants seek an ITP to conduct activities such as residential and commercial development, infrastructure development or maintenance, and energy development projects that range in scale from small to landscape-level planning efforts.

The permits associated with SHAs, CCAAs, HCPs, and scientific activities that we issued between January 1 and December 31, 2023, are listed in the tables in this notice.

Under section 10(a)(1)(A), we issued each permit only after we determined that it was applied for in good faith; that granting the permit would not be to the disadvantage of the listed species, or to any unlisted species on the permit should they be listed; and that the terms and conditions of the permits were consistent with the purposes and policy set forth in the ESA.

Under section 10(a)(1)(B), we issued permits only after we determined that the applicant was eligible and had submitted a complete application and HCP that fully met the permit issuance criteria consistent with section 10(a)(2)(B).

Permits Issued

Region 1 (Hawaii, Idaho, Oregon (Except for the Klamath Basin), Washington, American Samoa, Commonwealth of the Northern Mariana Islands, Guam, and the Pacific Trust Territories)

Table 1 shows permits issued by Region 1 of the Service. The table is sorted by type of permit or agreement and date issued. For more information about any of the HCP or CCAA permits, contact the HCP or CCAA permit coordinator by email at ITEOSpermitsR1ES@fws.gov or by telephone at 503-231-6131. For more information about any of the scientific permits, contact the Recovery Permit Coordinator by email at PermitsR1ES@fws.gov or by telephone at 503-231-6131.

Table 1—Permits Issued by Region 1
[Hawaii, Idaho, Oregon (except for Klamath Basin), Washington, American Samoa, Commonwealth of the Northern Mariana Islands, Guam, and the Pacific Trust Territories]
Permit No. | Permit type | Permittee | Date issued
PER3758543 | CCAA | Hampton Lumber | 7/27/2023
PER3767569 | CCAA | Starker Forests, Inc | 7/27/2023
91853B | HCP | Kaufman Holdings | 2/10/2023
PER1332359 | HCP | Kaufman Holdings | 3/22/2023
PER0492292 | HCP | Exeter 6292 196th Land, LLC | 3/22/2023
PER0075870 | HCP | Port Blakely Tree Farms L.P | 9/28/2023
PER0055668 | Scientific | Washington Department of Natural Resources, Northeast Region | 1/11/2023
PER0052916 | Scientific | Stephen Nyman | 1/13/2023
PER0051865 | Scientific | National Park Service, Kaloko-Honokohau National Historical Park | 1/24/2023
PER0531362 | Scientific | Weyerhaeuser Company—Springfield, OR | 1/27/2023
PER0043122 | Scientific | University of Washington Botanic Gardens Rare Care Program | 2/9/2023
PER0055693 | Scientific | Hawaii Division of Forestry and Wildlife | 2/15/2023
PER0057113 | Scientific | Hawaii Volcanoes National Park | 3/1/2023
PER1021683 | Scientific | Bureau of Land Management | 3/23/2023
PER0130817 | Scientific | University of Washington, Department of Psychology | 4/7/2023
PER1047414 | Scientific | Bureau of Land Management Oregon/Washington | 4/13/2023
PER1359031 | Scientific | Ian Robertson | 5/9/2023
PER2493731 | Scientific | Ecostudies Institute | 5/17/2023
PER0506192 | Scientific | Big Island National Wildlife Refuge Complex | 5/25/2023
PER2937977 | Scientific | Wallowa-Whitman National Forest | 6/5/2023
PER2911658 | Scientific | Oregon Department of Transportation | 6/6/2023
PER3037344 | Scientific | Brian Sidlauskas | 6/21/2023
PER2617529 | Scientific | Kalispel Tribe of Indians | 6/26/2023
PER1410319 | Scientific | U.S. Bureau of Reclamation—Snake River Area Office | 7/6/2023
PER2892324 | Scientific | Tessa Francis | 7/6/2023
PER3247913 | Scientific | Cramer Fish Sciences | 7/6/2023
PER1353215 | Scientific | Clare Aslan | 7/6/2023
PER1973469 | Scientific | Isaac Sandlin | 7/6/2023
PER3355672 | Scientific | Carnahan-Heuker Ranch | 7/6/2023
PER0833125 | Scientific | U.S. Army Garrison—Hawaii, Directorate of Public Works—Environmental Division | 8/7/2023
PER2682557 | Scientific | Bureau of Land Management, Medford District Office | 8/7/2023

Region 2 (Arizona, New Mexico, Oklahoma, and Texas)

Table 2 shows permits issued by Region 2 of the Service. The table is sorted by type of permit or agreement and date issued. For more information about any of the HCP, CCAA, or SHA permits, contact the HCP, CCAA, or SHA Permit Coordinator by email at FW2_HCP_Permits@fws.gov or by telephone at 505-248-6651. For more information about any of the scientific permits, contact the Recovery Permit Coordinator by email at PermitsR2ES@fws.gov or by telephone at 505-248-6649.

Table 2—Permits Issued by Region 2
[Arizona, New Mexico, Oklahoma, and Texas]
Permit No. | Permit type | Permittee | Date issued
PER0052444 | CCAA | Center of Excellence for Hazardous Materials Management | 3/27/2023
PER4612003 | CCAA | LCRA Transmission Services Corporation | 11/15/2023
PER5891706 | CCAA | American Conservation Foundation, Inc | 12/15/2023
PER3300079 | HCP | Whitewater Springs Property Owners Association, Inc | 6/23/2023
181840 | HCP | Williamson County, Texas | 11/16/2023
33684D | HCP | Davis-McCrary Property Trust | 11/16/2023
42299D | HCP | LCRA Transmission Services Corporation | 11/16/2023
48571B | HCP | Southern Edwards Plateau HCP—Bexar County & The City of San Antonio | 11/16/2023
PER0046301 | Scientific | Landhawk Consulting, LLC | 1/25/2023
PER0018550 | Scientific | Gary G. Mowad | 1/30/2023
PER0046268 | Scientific | Matthew Kitchen | 2/4/2023
PER0046306 | Scientific | Jeffrey T. Jenkerson | 2/4/2023
PER0055321 | Scientific | Patrick C. Boatright | 2/4/2023
PER0055315 | Scientific | Maria Musgrave | 2/4/2023
PER0056239 | Scientific | Alex Ramirez | 2/17/2023
PER0065413 | Scientific | Travis Audubon Society, Inc | 2/17/2023
PER0055325 | Scientific | Nicholas S. Gladstone | 2/17/2023
PER0056417 | Scientific | Casey Cowan | 2/17/2023
PER0046251 | Scientific | Shawn Carroll | 2/21/2023
PER0052329 | Scientific | Jacobs Engineering Group | 2/25/2023
PER0045962 | Scientific | Timothy J. Searl | 3/8/2023
PER0116609 | Scientific | The Kauffman Group | 3/8/2023
PER0051967 | Scientific | Heidi Kloeppel | 3/8/2023
PER0055691 | Scientific | Permits West, Inc | 3/8/2023
PER0055729 | Scientific | Christopher Francke | 3/8/2023
PER0062529 | Scientific | SWCA Incorporated | 3/8/2023
PER0131239 | Scientific | San Antonio Aquarium | 3/8/2023
PER0076022 | Scientific | U.S. Geological Survey, Oklahoma Cooperative Fish and Wildlife Research Unit | 3/8/2023
PER0070375 | Scientific | Brad Clemens | 3/8/2023
PER1679339 | Scientific | Horizon Environmental Services, Inc | 3/29/2023
PER0188309 | Scientific | Chauncey Gadek | 4/7/2023
PER2325260 | Scientific | Baer Engineering and Environmental Consulting, Inc | 4/8/2023
PER2325258 | Scientific | Rocky Mountain Bird Observatory | 4/8/2023
PER0055763 | Scientific | Texas State Aquarium | 4/11/2023
PER0040910 | Scientific | Jeremy Henson | 4/11/2023
PER0036384 | Scientific | USDA Forest Service—Rocky Mountain Research Station | 4/11/2023
PER0087313 | Scientific | Victoria Owen | 4/17/2023
PER0116336 | Scientific | Bureau of Land Management—Tucson Field Office | 4/18/2023
PER1906199 | Scientific | Paula D. Alsip | 4/18/2023
PER0070221 | Scientific | Caesar Kleberg Wildlife Research Institute—Texas A&M University—Kingsville | 5/1/2023
PER0716326 | Scientific | Glenn Rink | 5/1/2023
PER0046267 | Scientific | Scott Lillie | 5/12/2023
PER0039271 | Scientific | Matthew Johnson | 5/12/2023
PER1906335 | Scientific | Javan Bauder | 5/12/2023
PER0666399 | Scientific | The Nature Conservancy Arizona | 5/12/2023
PER2724981 | Scientific | SWCA, Inc | 5/25/2023
PER0049999 | Scientific | Power Engineers, Inc | 6/15/2023
PER2325257 | Scientific | Big Bend National Park | 6/16/2023
PER3323207 | Scientific | Javan Bauder | 6/21/2023
PER0658674 | Scientific | SWCA Environmental Consultants | 6/22/2023
PER0192207 | Scientific | Hicks & Company | 7/5/2023
PER1906336 | Scientific | Loren Ammerman | 7/14/2023
PER3806728 | Scientific | Loren Ammerman | 7/20/2023
PER0038593 | Scientific | Dallas Zoo Management, Inc | 7/24/2023
PER3851670 | Scientific | Amphibian and Reptile Conservancy, LLC | 7/25/2023
PER1906333 | Scientific | Jessica Ma | 7/28/2023
PER4001580 | Scientific | Sara Souther | 8/4/2023
PER0084202 | Scientific | U.S. Fish and Wildlife Service, Region 2 | 8/21/2023
PER2325254 | Scientific | Jeff Renfrow | 8/21/2023
PER3855826 | Scientific | Catherine E. Young | 8/25/2023
PER4478737 | Scientific | Loren Ammerman | 9/12/2023
PER3004838 | Scientific | National Audubon Society | 9/12/2023
PER4564679 | Scientific | Javan Bauder | 9/13/2023
PER0116610 | Scientific | Daniel H. Foley | 9/15/2023
PER2325256 | Scientific | Keith Geluso | 9/18/2023
PER1889346 | Scientific | Kara Tschirhart | 9/18/2023
PER2670793 | Scientific | Bruce Christman | 9/26/2023
PER3011081 | Scientific | Texas A&M University—Galveston | 9/26/2023
PER3115167 | Scientific | Nicholas Beauregard | 9/26/2023
PER4779511 | Scientific | SWCA Incorporated | 9/28/2023
PER0116052 | Scientific | New Mexico Office of the State Engineer/Interstate Stream Commission | 9/30/2023
PER0047822 | Scientific | Katie Snipes | 9/30/2023
PER0115496 | Scientific | Aecom Technical Services, Inc | 10/5/2023
PER2997785 | Scientific | New Mexico Energy, Minerals & Natural Resources Department | 10/5/2023
PER0055322 | Scientific | East Foundation | 10/10/2023
PER1902037 | Scientific | Elisa Abeyta | 10/17/2023
PER2182168 | Scientific | Charles Hathcock | 10/20/2023
PER2325259 | Scientific | New Mexico Department of Transportation Environmental Bureau | 10/20/2023
PER0104851 | Scientific | USDA Prescott National Forest | 10/21/2023
PER0052843 | Scientific | Martina Pernicano | 11/14/2023
PER5463680 | Scientific | University of Texas at Austin—Marine Science Institute | 11/14/2023
PER3012383 | Scientific | Nueces County Coastal Parks | 11/14/2023
PER2756918 | Scientific | Susan Courage | 11/18/2023
PER3935824 | Scientific | Brown and Gay Engineers, Inc | 11/18/2023
PER0115497 | Scientific | Steve Frost | 11/18/2023
PER0743511 | Scientific | USDA Forest Service—Kaibab National Forest | 11/29/2023
PER5314965 | Scientific | Transition Zone Horticultural Institute Inc | 11/30/2023
PER5007101 | Scientific | Bureau of Land Management—Phoenix | 11/30/2023
PER3587298 | Scientific | Anne Arnold | 11/30/2023
PER5701709 | Scientific | Transition Zone Horticultural Institute, Inc | 12/5/2023
PER3870581 | Scientific | Underwing Biological LLC | 12/19/2023
PER3700881 | SHA | N.M. Ranch Properties, Inc | 9/13/2023

Region 3 (Illinois, Indiana, Iowa, Michigan, Minnesota, Missouri, Ohio, and Wisconsin)

Table 3 shows permits issued by Region 3 of the Service. The table is sorted by type of permit or agreement and date issued. For more information about any of the HCP permits, contact the HCP Permit Coordinator at permitsR3ES@fws.gov or by telephone at 612-713-5343. For more information about any of the scientific permits, contact the Recovery Permit Coordinator by email at PermitsR3ES@fws.gov or by telephone at 612-713-5343.

Table 3—Permits Issued by Region 3
[Illinois, Indiana, Iowa, Michigan, Minnesota, Missouri, Ohio, and Wisconsin]
Permit No. | Permit type | Permittee | Date issued
PER0050261 | HCP | One Energy Plaza, dba Consumers Energy | 1/17/2023
PER0846080 | HCP | Michigan Department of Natural Resources | 1/30/2023
PER0846081 | HCP | Wisconsin Department of Natural Resources | 1/30/2023
PER0220777 | HCP | Minnesota Department of Natural Resources | 2/13/2023
PER0627303 | HCP | Apex Clean Energy | 4/10/2023
PER0626970 | HCP | Consumers Energy Company | 7/5/2023
PER3926307 | HCP | Capital Power Corporation | 8/7/2023
PER0105883 | Scientific | Jeremy Sheets | 1/23/2023
PER0071467 | Scientific | Western Ecosystems Technology, Inc | 2/3/2023
PER0070988 | Scientific | Jessica Miller | 2/6/2023
PER1002329 | Scientific | Scott Bergeson | 2/6/2023
PER0075443 | Scientific | Jeffrey Miller | 2/7/2023
PER0075405 | Scientific | Brenna Hyzy | 2/9/2023
PER0109412 | Scientific | Kenneth Mierzwa | 2/9/2023
PER1948825 | Scientific | Civil and Environmental Consultants, Inc | 3/16/2023
PER0038462 | Scientific | Emily Grossman | 3/28/2023
PER2098254 | Scientific | Bat Conservation and Management, Inc | 3/31/2023
PER0821809 | Scientific | Skelly and Loy, Inc | 3/31/2023
PER0090108 | Scientific | Ohio Department of Natural Resources | 4/5/2023
PER0089187 | Scientific | U.S. Geological Survey | 4/5/2023
PER0032524 | Scientific | The Nature Conservancy | 4/5/2023
PER2095614 | Scientific | Minnesota Department of Natural Resources | 4/5/2023
PER1223955 | Scientific | Applied Science & Technology, Inc | 4/11/2023
PER1462021 | Scientific | Keystone Ecological Services, LLC | 4/11/2023
PER0050265 | Scientific | Mainstream Commercial Divers, Inc | 4/12/2023
PER2259253 | Scientific | Herpetological Resource and Management, LLC | 4/12/2023
PER2363024 | Scientific | U.S. Geological Survey | 4/12/2023
PER0109426 | Scientific | Mountain State Biosurveys, LLC | 4/12/2023
PER1369190 | Scientific | Hennepin County Environment and Energy | 4/12/2023
PER0610296 | Scientific | Ashleigh Cable | 4/14/2023
PER2517095 | Scientific | RES Kentucky, LLC | 4/14/2023
PER0089184 | Scientific | Ashley M. Reed | 4/14/2023
PER2325625 | Scientific | Minnesota Department of Natural Resources | 4/14/2023
PER2499667 | Scientific | Clarissa Starbuck | 4/14/2023
PER2325382 | Scientific | Alma Schrage | 4/14/2023
PER1966123 | Scientific | Midwest Natural Resources, Inc | 4/25/2023
PER2465775 | Scientific | University of Minnesota—Snell Rood Lab | 4/25/2023
PER0037923 | Scientific | Thomas L. Estrem | 4/26/2023
PER2496109 | Scientific | Rex Everett | 4/26/2023
PER2644672 | Scientific | Power Engineers, Inc | 4/28/2023
PER2375951 | Scientific | Glenn Johnson | 4/28/2023
07730A | Scientific | RES Kentucky, LLC | 5/2/2023
PER1867075 | Scientific | Jackson County Conservation Board | 5/2/2023
PER2537980 | Scientific | Minnesota Zoo | 5/5/2023
PER1224186 | Scientific | Greg Gaulke | 5/11/2023
PER1231528 | Scientific | Karen Goodell | 5/12/2023
PER1672831 | Scientific | Randy Mitchell | 5/19/2023
PER2934406 | Scientific | Sanders Environmental, Inc | 5/24/2023
PER0036813 | Scientific | Adam Benshoff | 5/26/2023
PER3112771 | Scientific | Julia Wilson | 6/1/2023
PER3110946 | Scientific | Carly R. Kalina | 6/1/2023
PER3115464 | Scientific | Michigan State University | 6/1/2023
PER2965067 | Scientific | University of Wisconsin, Madison | 6/7/2023
PER2965483 | Scientific | Elaine Evans | 6/7/2023
PER3044835 | Scientific | Minnesota Pollution Control Agency | 6/7/2023
PER1896698 | Scientific | Caleb Knerr | 6/9/2023
PER3249978 | Scientific | Minnesota Zoo | 6/14/2023
PER3335374 | Scientific | USDA Forest Service | 6/30/2023
PER3473736 | Scientific | Iowa State University | 6/30/2023
PER2764231 | Scientific | Larisa Bishop-Boros | 7/18/2023
PER3760873 | Scientific | Lewis Environmental Consulting, LLC | 7/21/2023
PER3764241 | Scientific | Elisabeth Hollinden | 7/21/2023
PER1224019 | Scientific | Eric B. Snyder | 7/21/2023
PER3964309 | Scientific | National Park Service | 8/2/2023
PER0109455 | Scientific | Brianne Walters | 8/8/2023
PER0723839 | Scientific | Jeffrey D. Gordon | 8/8/2023
PER2689519 | Scientific | Jeanette Bailey | 8/24/2023
PER4289673 | Scientific | Keystone Ecological Services, LLC | 8/24/2023
PER3924084 | Scientific | RES Kentucky, LLC | 8/25/2023
PER3614742 | Scientific | Illinois Natural History Survey | 8/25/2023
PER2816274 | Scientific | Joe Snavely | 8/25/2023
PER2920462 | Scientific | Ohio Department of Transportation | 8/25/2023
PER2549878 | Scientific | Morgan E. Christman | 8/25/2023
PER2872883 | Scientific | Jeff Huebschman | 8/25/2023
PER2885463 | Scientific | Kyle Jansky | 8/25/2023
PER4768599 | Scientific | Joseph Hoyt | 9/26/2023
PER4764625 | Scientific | Samuel A. Schratz | 9/28/2023
PER3193253 | Scientific | Applied Science & Technology, Inc | 9/29/2023
PER3696350 | Scientific | Curtis Hart | 9/29/2023
PER4408901 | Scientific | Ohio Environmental Protection Agency | 9/29/2023
PER3242216 | Scientific | Lindsey N. Jakovljevic | 9/29/2023
PER3542792 | Scientific | Christopher B. Burke Engineering, Ltd | 10/2/2023
PER3192519 | Scientific | Illinois Natural History Survey | 10/12/2023
PER5016185 | Scientific | DIEHLUX LLC | 10/13/2023
PER4561460 | Scientific | Greg Gaulke | 10/16/2023
PER3117158 | Scientific | EcoAnalysts, Inc | 10/20/2023
PER5565091 | Scientific | Jason Bracken | 12/8/2023
PER4830512 | Scientific | Shaun McCoshum | 12/11/2023
PER4687585 | Scientific | Douglas Kapusinski | 12/13/2023

Region 4 (Alabama, Arkansas, Florida, Georgia, Kentucky, Louisiana, Mississippi, North Carolina, South Carolina, Tennessee, the Commonwealth of Puerto Rico, and the U.S. Virgin Islands)

Table 4 shows permits issued by Region 4 of the Service. The table is sorted by type of permit or agreement and date issued. For more information about any of the HCP, CCAA, or SHA permits, contact the HCP, CCAA, or SHA Permit Coordinator by email at PermitsR4ES@fws.gov or by telephone at 404-679-7140. For more information about any of the scientific permits, contact the Recovery Permit Coordinator by email at PermitsR4ES@fws.gov or by telephone at 404-679-7140.

Table 4—Permits Issued by Region 4
[Alabama, Arkansas, Florida, Georgia, Kentucky, Louisiana, Mississippi, North Carolina, South Carolina, Tennessee, the Commonwealth of Puerto Rico, and the U.S. Virgin Islands]
Permit No. | Permit type | Permittee | Date issued
PER0119056 | CCAA | Georgia Wildlife Resources Division | 9/20/2023
PER0119117 | CCAA | Florida Fish and Wildlife Conservation Commission | 9/20/2023
PER0169202 | HCP | Bio-Tech Consulting, Inc | 1/12/2023
PER0517463 | HCP | Barrett Thrasher | 1/18/2023
PER0089909 | HCP | IRA Innovations, LLC | 1/19/2023
PER0095165 | HCP | Bruce Krantz | 1/23/2023
PER0117369 | HCP | Marlaw Investments, LLC | 1/23/2023
PER0890513 | HCP | Brian Collins, dba BC Construction, LLC | 1/30/2023
PER0113556 | HCP | Patrick Garrett | 1/30/2023
PER0117398 | HCP | R&R Real Estate Holdings, LLC | 1/30/2023
PER0107632 | HCP | Jeffrey Rosen | 2/6/2023
PER0039153 | HCP | LIT BLV FL Old Lake Wilson Rd Phase 1 Owner, LLC | 2/10/2023
PER0089863 | HCP | Marc Fenwick | 2/14/2023
PER1157521 | HCP | Brian Spychalski | 2/22/2023
PER0881876 | HCP | Karl Williams | 2/27/2023
PER0105803 | HCP | ERSALLOG | 2/27/2023
PER1239911 | HCP | John Massey | 3/1/2023
PER1749417 | HCP | Whitson Builders, LLC | 3/7/2023
PER0889460 | HCP | Sean & Dawn Carmichael | 3/10/2023
PER1474857 | HCP | Cecilia Wales | 3/10/2023
PER1877805 | HCP | Island Development Custom Homes, LLC | 3/10/2023
PER1558333 | HCP | S&J Properties, LLC | 3/15/2023
PER1373813 | HCP | Randy Ammon | 3/24/2023
PER0531313 | HCP | Joshua Cain | 3/29/2023
PER1171316 | HCP | Kathryn Farris | 3/30/2023
PER2261730 | HCP | Conservation Resource Partners, LLC | 4/4/2023
PER1963998 | HCP | Seagull, LLC | 4/12/2023
PER2064457 | HCP | Hayden and Samantha Faison | 4/19/2023
PER2258345 | HCP | William Johns | 4/19/2023
PER0068768 | HCP | Luxer Development, LLC | 5/10/2023
PER0053113 | HCP | Tri-State Solar Project, LLC | 5/25/2023
PER0068766 | HCP | JDT of Central Florida | 5/25/2023
PER0271956 | HCP | Sampathkumar Srikanth | 5/31/2023
PER3039622 | HCP | James M. Hollis | 6/2/2023
PER2243374 | HCP | Tina Britton | 6/8/2023
PER2514410 | HCP | Scott Green | 6/16/2023
PER3134909 | HCP | Chura Residential Holdings AL, LLC | 6/23/2023
PER0041055 | HCP | R&R Real Estate Holdings, LLC | 6/23/2023
PER3480890 | HCP | R&R Real Estate Holdings, LLC | 6/23/2023
PER2425491 | HCP | Thomas Popee | 6/23/2023
PER3336798 | HCP | Regis Zurchin | 6/23/2023
PER0563271 | HCP | Remington Stewart, LLP | 6/26/2023
PER0109456 | HCP | Craig Martin | 6/27/2023
PER2867375 | HCP | R&R Real Estate Holdings, LLC | 6/27/2023
PER3354001 | HCP | MAS Development | 7/6/2023
PER0046193 | HCP | Forestar USA Real Estate Group, Inc | 7/6/2023
PER3589973 | HCP | Fawzy Sedrak | 7/7/2023
PER3642643 | HCP | Jesse Cronen | 7/10/2023
PER3651568 | HCP | David Lawson | 7/11/2023
PER3256222 | HCP | Finlay & Company, LLC | 7/12/2023
PER3239910 | HCP | Jason Bond | 7/14/2023
PER1098771 | HCP | Gulf Beach Subdivision C POA | 7/14/2023
PER3694849 | HCP | Matthew Bonin | 7/14/2023
PER3520740 | HCP | R&R Real Estate Holdings, LLC | 7/19/2023
PER3339970 | HCP | Craig Martin | 7/19/2023
PER0284585 | HCP | Lux Sand Castle, LLC | 7/27/2023
PER0055690 | HCP | Ashton Orlando Residential, LLC | 7/28/2023
PER3932350 | HCP | Conservation Resource Partners, LLC | 7/31/2023
PER3664589 | HCP | Christopher Prantl | 7/31/2023
PER3667321 | HCP | Tom M. Gordon | 8/1/2023
PER3240371 | HCP | Paul Wagner | 8/3/2023
PER3573352 | HCP | Patrick and Janie Minahan | 8/15/2023
PER4141121 | HCP | S & W Farms | 8/15/2023
PER0607408 | HCP | Legacy Westside Apartments, LLC | 8/17/2023
PER3169546 | HCP | Joshua Napp | 8/24/2023
PER2261354 | HCP | Malabar PO, LLC | 8/31/2023
PER3363287 | HCP | Serenity P., LLC | 9/7/2023
PER3505063 | HCP | Jason Bond | 9/8/2023
PER0124344 | HCP | Lake County, Hooks Street Extension | 9/13/2023
PER4772083 | HCP | David and Dorothy Knoepflein | 9/29/2023
PER2768044 | HCP | Center Point Integrated Solutions, LLC | 10/12/2023
PER4722362 | HCP | Craig Martin | 10/17/2023
PER0046853 | HCP | TC Florida Development, Inc | 10/19/2023
PER0549463 | HCP | Helen J. Crittendon | 10/20/2023
PER1097491 | HCP | Bio-Tech Consulting, Inc | 10/20/2023
PER1368039 | HCP | Kimaya, LLC | 11/29/2023
PER5687008 | HCP | James M. Brown | 11/30/2023
PER2423322 | HCP | Park Square Enterprises, LLC | 12/4/2023
PER5437792 | HCP | The Conservation Fund | 12/7/2023
PER5670106 | HCP | Lisa Norwood | 12/15/2023
PER5645271 | HCP | Timothy and Lora Carpentier | 12/15/2023
PER5619460 | HCP | Michelle Garmon | 12/15/2023
PER5689661 | HCP | Lux Sand Castle, LLC | 12/15/2023
PER5710813 | HCP | Craig Martin | 12/15/2023
PER5712692 | HCP | Craig Martin | 12/15/2023
PER1971641 | HCP | Coyote Crossings Holdings and Marion County Board of County Commissioners | 12/18/2023
PER5664161 | HCP | John Thomas | 12/20/2023
PER0031525 | Scientific | U.S. Army Corps of Engineers, Memphis District | 1/3/2023
PER0056434 | Scientific | Amanda Yong | 1/12/2023
PER0056459 | Scientific | Jeffrey K. McDaniel | 1/12/2023
PER0433409 | Scientific | William Peifley | 1/17/2023
PER0070437 | Scientific | Christopher Daniel | 1/20/2023
PER0055492 | Scientific | Alanna L. Cohen | 1/23/2023
PER0112931 | Scientific | Phoebe N. Larkin | 1/23/2023
PER0049605 | Scientific | U.S. Forest Service | 1/25/2023
PER0037593 | Scientific | Don W. Hubbs | 1/26/2023
PER0044182 | Scientific | North Carolina Zoo | 1/29/2023
PER0093007 | Scientific | William Pruitt | 1/30/2023
PER0038324 | Scientific | Jesse Robinson | 1/31/2023
PER0037812 | Scientific | Burton Lim | 1/31/2023
PER0125737 | Scientific | Jamy I. Swiss | 2/1/2023
PER0036439 | Scientific | Stephanie A. Legare | 2/3/2023
PER0064616 | Scientific | Scott M. Cohen | 2/6/2023
PER0040482 | Scientific | Burns & McDonnell Engineering Company, Inc | 2/9/2023
PER0039378 | Scientific | Joseph D. Alderman | 2/10/2023
PER0054807 | Scientific | Kyrsten Beretsky | 2/15/2023
PER0042583 | Scientific | Jason B. Robinson | 2/20/2023
PER0114446 | Scientific | George Brice | 3/6/2023
PER0972382 | Scientific | Jacob Goodman | 3/7/2023
PER0506491 | Scientific | Jason Dean | 3/13/2023
PER0043361 | Scientific | Joan L. Morrison | 3/14/2023
PER0037015 | Scientific | Goethe State Forest | 3/15/2023
PER1593428 | Scientific | Albert Scott | 3/15/2023
PER0012927 | Scientific | Florida Museum of Natural History | 3/17/2023
PER1090818 | Scientific | Biff Roeling | 3/20/2023
PER0039990 | Scientific | Timothy W. Savidge | 3/22/2023
PER0005185 | Scientific | Chanston Osborne | 3/26/2023
PER0009385 | Scientific | Martin J. Melville | 3/28/2023
PER1800628 | Scientific | David VanBuren | 3/29/2023
PER1911361 | Scientific | Jacob Goodman | 3/30/2023
PER2062544 | Scientific | Robert Ossiboff | 3/30/2023
PER1602630 | Scientific | Sandhills Ecological Institute | 3/31/2023
PER0045137 | Scientific | Nathan D. Click | 3/31/2023
PER0045271 | Scientific | John G. Palis | 4/7/2023
PER0037843 | Scientific | Michael M. Gangloff | 4/7/2023
PER0045266 | Scientific | FTN Associates, Ltd | 4/12/2023
PER0056376 | Scientific | Betsie Rothermel | 4/12/2023
PER1757755 | Scientific | Michelle Gilley | 4/14/2023
PER0037085 | Scientific | Mississippi Aquarium | 4/14/2023
PER0043371 | Scientific | Leslie S. Meade | 4/24/2023
PER2543013 | Scientific | Brian Sharp | 4/24/2023
PER1666154 | Scientific | Larry Moses | 4/25/2023
049502 | Scientific | Carola A Haas | 4/27/2023
PER0043978 | Scientific | Carla Atkinson | 4/27/2023
PER2800002 | Scientific | Kristen Clemens | 5/4/2023
PER0042954 | Scientific | Central Florida Zoological Society | 5/5/2023
PER1565691 | Scientific | Copperhead Environmental Consulting, Inc | 5/9/2023
PER1306120 | Scientific | Anthony Marinelli | 5/9/2023
PER0559193 | Scientific | Joy M. O'Keefe | 5/10/2023
PER1408431 | Scientific | Carnivorous Plant Nursery | 5/15/2023
PER0046345 | Scientific | USDA Forest Service National Forests in Alabama | 5/17/2023
PER0045907 | Scientific | David Breininger | 5/18/2023
PER0045959 | Scientific | Sarah E. Veselka | 5/18/2023
PER0047094 | Scientific | Arkansas Highway and Transportation Department | 6/5/2023
PER0022603 | Scientific | Avian Research and Conservation Institute | 6/7/2023
PER3190674 | Scientific | Joan L. Morrison | 6/8/2023
PER2789508 | Scientific | Brian Navarrete | 6/21/2023
PER2376038 | Scientific | Tyrone D. Idleman | 6/22/2023
PER2787587 | Scientific | Randy Edwards | 6/22/2023
PER2117968 | Scientific | Robert T. Watts | 7/13/2023
PER2500053 | Scientific | Cristian Guerra | 7/13/2023
PER0397782 | Scientific | U.S. Forest Service | 7/17/2023
PER2785939 | Scientific | Liana Yang | 7/17/2023
PER1740250 | Scientific | HMB Professional Engineers, Inc | 7/23/2023
PER0050578 | Scientific | Stephen Golladay | 7/27/2023
PER3980377 | Scientific | Memphis Zoo | 8/1/2023
PER0018443 | Scientific | U.S. Army Engineer Research & Development Center | 8/2/2023
PER0037218 | Scientific | Alabama Department of Environmental Management | 8/2/2023
PER0056002 | Scientific | Atlanta Botanical Garden | 8/3/2023
PER2496420 | Scientific | Alabama Coastal Foundation | 8/3/2023
PER3906467 | Scientific | Charlie Brunton | 8/7/2023
PER4049100 | Scientific | John A. Murray | 8/7/2023
PER3522309 | Scientific | Ennis Berker | 8/8/2023
PER4081887 | Scientific | Alabama Department of Environmental Management | 8/9/2023
PER0047514 | Scientific | Alabama Power Company | 8/11/2023
PER3128179 | Scientific | McNeese State University | 8/11/2023
PER3877606 | Scientific | Joan L. Morrison | 8/17/2023
PER4231057 | Scientific | Georgia Museum of Natural History | 8/17/2023
PER0051947 | Scientific | Jeffrey Walters | 8/24/2023
PER0051449 | Scientific | Joshua Adams | 8/24/2023
PER1097490 | Scientific | Nick M. Haddad | 8/25/2023
PER0054639 | Scientific | Conservation Fisheries, Inc | 8/28/2023
PER0042198 | Scientific | Frank N. Ridgley | 8/29/2023
PER0048747 | Scientific | James W. Gore | 9/5/2023
PER0051148 | Scientific | Edwards-Pitman Environmental, Inc | 9/5/2023
PER4458456 | Scientific | Arkansas Highway and Transportation Department | 9/5/2023
PER3095066 | Scientific | Kelli Miller | 9/5/2023
PER4208298 | Scientific | Biff Roeling | 9/5/2023
PER4319408 | Scientific | Joshua J. Schmidt | 9/5/2023
PER4327681 | Scientific | Jamy I. Swiss | 9/5/2023
PER4327682 | Scientific | Travis S. Cox | 9/5/2023
PER4215438 | Scientific | Alyssa Hughes | 9/6/2023
PER2974422 | Scientific | Reed's Rhacs | 9/7/2023
PER4379732 | Scientific | Carola A. Haas | 9/21/2023
PER0056088 | Scientific | Riverside Environmental Consulting | 9/22/2023
PER4307556 | Scientific | Colin Lindsey | 9/28/2023
PER4379651 | Scientific | Biff Roeling | 9/28/2023
PER0071461 | Scientific | Tennessee Wildlife Resources Agency | 10/5/2023
PER4458006 | Scientific | Leighton Burton | 10/19/2023
PER0056542 | Scientific | Zoe D. Bryant | 10/20/2023
PER3876632 | Scientific | Fort Liberty Endangered Species Branch | 10/20/2023
PER0718042 | Scientific | U.S. Army, Fort Eisenhower | 10/20/2023
PER4458115 | Scientific | Alex Pepper | 10/23/2023
PER3276222 | Scientific | University of Florida | 10/24/2023
PER4309888 | Scientific | Central Florida Zoological Society | 10/24/2023
PER0723487 | Scientific | UT-Batelle Corp | 10/26/2023
PER0056298 | Scientific | Phillip Jordan | 10/26/2023
PER0351909 | Scientific | Pennington and Associates, Inc | 11/1/2023
PER4542510 | Scientific | Emma Willcox | 11/2/2023
PER4179836 | Scientific | James Godwin | 11/3/2023
PER4898827 | Scientific | Alabama Department of Environmental Management | 11/6/2023
PER4580721 | Scientific | The Creature Conservancy | 11/6/2023
PER4620561 | Scientific | Cameron Kruse | 11/6/2023
PER4439184 | Scientific | Christopher Suarez | 11/7/2023
PER0388631 | Scientific | Gordon-Bryon S Marsh | 11/13/2023
PER4057171 | Scientific | Kyrsten Beretsky | 11/24/2023
PER4772546 | Scientific | Ronald Stroupe | 11/24/2023
PER4819382 | Scientific | Robert T. Watts | 11/29/2023
PER0970704 | Scientific | Corblu Ecology Group, LLC | 11/30/2023
PER4307501 | Scientific | Chattahoochee-Oconee National Forests | 12/7/2023
PER4243709 | Scientific | Powersouth Energy Cooperative | 12/7/2023
PER0083636 | Scientific | Ray W. Eaton | 12/7/2023
PER5127477 | Scientific | Natalie Boyer | 12/11/2023
PER5664140 | Scientific | Richard Pedro | 12/12/2023
PER5266683 | Scientific | Joseph Simpson | 12/18/2023
PER5297521 | Scientific | Colin Lindsey | 12/18/2023
PER5331768 | Scientific | Jacob Goodman | 12/18/2023
PER5402147 | Scientific | Rebecca Ward | 12/18/2023
PER5521499 | Scientific | Austin Ackman | 12/18/2023
PER1217169 | Scientific | Ann Altman | 12/20/2023
PER1849047 | Scientific | David Eargle | 12/20/2023
PER5670912 | Scientific | Robert T. Watts | 12/20/2023
PER5875950 | Scientific | Shivam Patel | 12/21/2023
PER0041144 | SHA | North Carolina Wildlife Resources Commission | 2/10/2023

Region 5 (Connecticut, Delaware, District of Columbia, Maine, Maryland, Massachusetts, New Hampshire, New Jersey, New York, Pennsylvania, Rhode Island, Vermont, Virginia, and West Virginia)

Table 5 shows permits issued by Region 5 of the Service. The table is sorted by date issued. For more information about any of the permits, contact the Recovery Permit Coordinator by email at PermitsR5ES@fws.gov or by telephone at 413-253-8212.

Table 5—Permits Issued by Region 5
[Connecticut, Delaware, District of Columbia, Maine, Maryland, Massachusetts, New Hampshire, New Jersey, New York, Pennsylvania, Rhode Island, Vermont, Virginia, and West Virginia]
Permit No. | Permit type | Permittee | Date issued
PER0132646 | Scientific | Marine Mammal Stranding Center | 2/7/2023
PER1313010 | Scientific | U.S. Fish and Wildlife Service | 2/13/2023
PER1410217 | Scientific | Mark Hepner | 2/15/2023
PER0048761 | Scientific | Rhode Island Zoological Society | 2/16/2023
PER1573712 | Scientific | National Aquarium in Baltimore | 2/23/2023
PER2174719 | Scientific | Sea Research Foundation | 3/29/2023
PER0047058 | Scientific | Massachusetts Division of Fisheries and Wildlife | 3/31/2023
PER0055310 | Scientific | Gian L. Rocco | 4/5/2023
PER1885223 | Scientific | Wildlife Restoration Partnerships | 4/14/2023
PER2120866 | Scientific | Virginia Polytechnic Institute | 4/21/2023
PER1540434 | Scientific | Steve Tanguay | 4/24/2023
PER1373652 | Scientific | University of Rhode Island | 4/25/2023
PER1541732 | Scientific | Emily K. Pody | 5/8/2023
PER1745522 | Scientific | Zeinab M. Haidar | 5/8/2023
PER2989773 | Scientific | Wildlife Restoration Partnerships | 5/24/2023
PER3025678 | Scientific | Sea Turtle Recovery | 5/31/2023
PER3049521 | Scientific | Atlantic Marine Conservation Society | 6/1/2023
PER1541934 | Scientific | Audubon Seabird Institute | 6/1/2023
PER3160225 | Scientific | Massachusetts Division of Fisheries and Wildlife | 6/12/2023
PER0046838 | Scientific | National Marine Fisheries Service | 6/28/2023
PER3529969 | Scientific | Riverhead Foundation for Marine Research and Preservation | 6/29/2023
PER3577603 | Scientific | White Sulphur Springs National Fish Hatchery | 7/6/2023
PER0132646 | Scientific | Marine Mammal Stranding Center | 2/7/2023
PER1313010 | Scientific | U.S. Fish and Wildlife Service | 2/13/2023
PER1410217 | Scientific | Mark Hepner | 2/15/2023
PER0048761 | Scientific | Rhode Island Zoological Society | 2/16/2023

Region 6 (Colorado, Kansas, Montana, Nebraska, North Dakota, South Dakota, Utah, and Wyoming)

Table 6 shows permits issued by Region 6 of the Service. The table is sorted by type of permit or agreement and date issued. For more information about any of the CCAA or HCP permits, contact the CCAA or HCP Permit Coordinator by email at PermitsR6ES@fws.gov or by telephone at 303-236-7905. For more information about any of the recovery permits, contact the Recovery Permit Coordinator by email at PermitsR6ES@fws.gov or by telephone at 303-236-4224.

Permit No. | Permit type | Permittee | Date issued
PER2352309 | CCAA | Eagle Ridge Ranch Co | 4/4/2023
PER0085472 | HCP | St. Charles Brookside, LLC | 3/30/2023
PER3645116 | HCP | City of Colorado Springs | 7/27/2023
PER0330501 | Scientific | National Mississippi River Museum & Aquarium | 1/4/2023
PER0048042 | Scientific | Horrocks Engineers | 1/9/2023
PER0194551 | Scientific | Montana Department of Fish, Wildlife And Parks | 1/12/2023
PER0013187 | Scientific | DJ&A, P.C | 1/17/2023
PER0774112 | Scientific | South Dakota Game, Fish and Parks Department | 1/23/2023
PER0104630 | Scientific | U.S. Fish and Wildlife Service | 1/26/2023
PER0047113 | Scientific | Friends of the Topeka Zoo, Inc | 1/30/2023
PER1380073 | Scientific | U.S. Geological Survey | 2/14/2023
704930 | Scientific | U.S. Fish and Wildlife Service | 2/14/2023
PER0057787 | Scientific | Western Ecosystems Technology | 2/17/2023
PER0535647 | Scientific | HWA Wildlife Consulting, LLC | 3/17/2023
PER0114854 | Scientific | Rustin Nordsven | 4/17/2023
PER2611714 | Scientific | Jim Reiser | 4/26/2023
PER1710884 | Scientific | Meadowlark Environmental, LLC | 4/28/2023
PER2616267 | Scientific | Jameson T. Reiser | 5/1/2023
PER0056871 | Scientific | ERO Resources Corporation | 5/4/2023
PER2804602 | Scientific | Colorado Natural Heritage Program, Colorado State University | 5/4/2023
PER0108217 | Scientific | Bluestem Consulting, LLC | 5/9/2023
PER2873418 | Scientific | Christopher Guy | 5/11/2023
PER0045992 | Scientific | Prairie Wildlife Research, Inc | 5/15/2023
PER2042008 | Scientific | North Dakota State University | 5/22/2023
PER0050172 | Scientific | Cheyenne Mountain Zoo | 6/14/2023
PER0380992 | Scientific | Josiah J. Nelson | 6/14/2023
PER2684529 | Scientific | Glen Canyon National Recreation Area | 6/23/2023
PER3527015 | Scientific | Department of Agriculture and Natural Resources | 6/29/2023
PER3596121 | Scientific | Lower Brule Sioux Tribe Dept Wildlife, Fish and Recreation | 7/6/2023
PER0056247 | Scientific | Louisville Zoological Garden | 7/10/2023
PER3694848 | Scientific | Colorado State University | 7/13/2023
PER2041868 | Scientific | Wyoming Natural Diversity Database—Zoology Dept | 7/13/2023
PER0039146 | Scientific | Blanchard Environmental Consulting | 8/18/2023
PER4264523 | Scientific | Power Engineers, Inc | 8/29/2023
PER4415788 | Scientific | Interwest Wildlife & Ecological Services, Inc | 8/30/2023
PER4449727 | Scientific | Zion National Park | 9/1/2023
PER4756147 | Scientific | National Park Service Niobrara National Scenic River | 9/25/2023
PER5060766 | Scientific | Lincoln Children's Zoo | 10/16/2023
PER4054943 | Scientific | Colorado Field Office | 11/6/2023
PER5589490 | Scientific | Bureau of Land Management—State Office | 11/22/2023
PER4488505 | Scientific | Felsburg Holt & Ullevig | 11/28/2023
PER3038588 | Scientific | Denver Botanic Gardens, Inc | 12/6/2023
PER5476481 | Scientific | University Of Nebraska | 12/8/2023
PER6044174 | Scientific | New Century Environmental, LLC | 12/21/2023

Region 7 (Alaska)

Table 7 shows the recovery permit issued by Region 7 of the Service. For more information, contact the Permit Coordinator, by email at PermitsR7ES@fws.gov or by telephone at 907-786-3323.

Table 7—Permit Issued by Region 7
[Alaska]
Permit No. | Permit type | Permittee | Date issued
PER0050004 | Scientific | Seward Association for the Advancement of Marine Science | 10/27/2023

Region 8 (California, Nevada, and the Klamath Basin Portion of Oregon)

Table 8 shows the permits issued by Region 8 of the Service. The table is sorted by type of permit or agreement and date issued. For more information about any of the HCP or SHA permits, contact the HCP or SHA Permit Coordinator, by email at ITEOSpermitsR8ES@fws.gov or by telephone at 916-414-6464. For more information about any of the recovery permits, contact the Recovery Permit Coordinator, by email at PermitsR8ES@fws.gov or by telephone at 916-414-6464.

Table 8—Permits Issued by Region 8
[California, Nevada, and the Klamath Basin Portion of Oregon]
Permit No. | Permit type | Permittee | Date issued
PER1717545 | HCP | Spring Mountain Raceway, LLC | 3/3/2023
PER2452240 | HCP | Element Consulting | 4/10/2023
PER2756059 | HCP | Los Angeles County Public Works | 5/4/2023
PER2809265 | HCP | Morgan Krapes-Kiah | 5/16/2023
PER2322205 | HCP | WECAT, LLC | 6/16/2023
PER3596122 | HCP | Golden State Water Company | 7/25/2023
PER3763569 | HCP | G3 Enterprises, Inc | 8/21/2023
PER4671392 | HCP | Conoco Phillips | 9/22/2023
PER4776519 | HCP | Sweetwater Authority | 9/29/2023
PER4990218 | HCP | Clayton Shannon | 10/12/2023
PER4956429 | HCP | San Diego Gas & Electric | 10/20/2023
PER5234254 | HCP | Ray Krause | 11/14/2023
PER5267797 | HCP | Paul Kasson | 11/22/2023
PER0117687 | HCP | Los Angeles Department of Water and Power | 11/28/2023
PER6247735 | HCP | Louis Jutras | 12/22/2023
PER6099522 | HCP | Andris Upitis | 12/27/2023
PER0018930 | Scientific | National Park Service, Crater Lake National Park | 1/4/2023
PER0037722 | Scientific | Amy Bakker | 1/5/2023
PER0046237 | Scientific | Richard Lis | 1/5/2023
PER0046335 | Scientific | Joel J. Mulder | 1/11/2023
PER0045164 | Scientific | Environmental Science Associates | 1/12/2023
PER0036770 | Scientific | Thea Benson | 1/12/2023
PER0045083 | Scientific | Jonathan Aguayo | 1/12/2023
PER0046221 | Scientific | Sarah Krejca | 1/12/2023
PER0045277 | Scientific | Glen Y. Kinoshita | 1/12/2023
PER0045161 | Scientific | Cullen A. Wilkerson | 1/18/2023
PER0046264 | Scientific | Midpeninsula Regional Open Space District | 1/27/2023
PER0040619 | Scientific | Tammy Lim | 1/27/2023
PER0046364 | Scientific | Geoff Hoetker | 1/27/2023
PER0046347 | Scientific | Elena Gregg | 2/7/2023
PER0046261 | Scientific | Jeff Gurule | 2/7/2023
PER0046234 | Scientific | Nathan Moorhatch | 2/16/2023
PER0028461 | Scientific | Ryan Quilley | 2/16/2023
PER0045232 | Scientific | U.S. Geological Survey—Western Ecological Research Center | 2/23/2023
PER0075531 | Scientific | Barry Nerhus | 2/23/2023
PER0027380 | Scientific | Catalina Island Conservancy | 2/24/2023
PER0039159 | Scientific | Kimberly Ferree | 2/24/2023
PER0022791 | Scientific | Recon Environmental, Inc | 2/24/2023
PER0036707 | Scientific | Spencer Langdon | 2/24/2023
PER0032395 | Scientific | Tara Baxter | 2/24/2023
PER0045963 | Scientific | Nina L. Kidd | 2/25/2023
PER0045258 | Scientific | Alicia Cooper Hill | 2/25/2023
PER0050236 | Scientific | Kedest Ketsela | 2/25/2023
PER0046223 | Scientific | Thomas Dayton | 2/25/2023
PER0049784 | Scientific | Andrew M. Steyers | 2/25/2023
PER0040618 | Scientific | Jesse Reebs | 3/1/2023
PER0046266 | Scientific | Brian Lohstroh | 3/1/2023
PER0057527 | Scientific | Sadie McGarvey | 3/1/2023
PER0046275 | Scientific | Victor Novik | 3/1/2023
PER0049777 | Scientific | Melissa Busby | 3/1/2023
PER0046188 | Scientific | Center for Natural Lands Management | 3/1/2023
PER0046276 | Scientific | Dale Ritenour | 3/1/2023
PER0046179 | Scientific | Stefanie Nisich | 3/1/2023
PER0046312 | Scientific | Jennifer Kendrick | 3/1/2023
PER0046257 | Scientific | Michael Wilcox | 3/1/2023
PER0046258 | Scientific | Jeff Priest | 3/1/2023
PER0046133 | Scientific | Scott Crawford | 3/1/2023
PER0036662 | Scientific | Point Reyes Bird Observatory | 3/2/2023
PER0159654 | Scientific | Thomas Gast & Associates Environmental Consultants | 3/2/2023
PER0046256 | Scientific | San Francisco Zoological Society | 3/2/2023
PER0045233 | Scientific | Paul C. Keating | 3/2/2023
PER0121617 | Scientific | Kyle S. Wear | 3/2/2023
PER0046426 | Scientific | Tetra Tech, Inc | 3/3/2023
PER0041933 | Scientific | Suk-Ann Yee | 3/3/2023
PER0034919 | Scientific | Mason Holmes | 3/3/2023
PER0046366 | Scientific | Kristin E. Smith | 3/3/2023
PER0046430 | Scientific | Russell Sweet | 3/3/2023
PER0050163 | Scientific | Anderson Tate-Montenegro | 3/3/2023
PER0050168 | Scientific | Nicolette E Murphey | 3/3/2023
PER0046362 | Scientific | Ventana Wildlife Society | 3/6/2023
PER0044410 | Scientific | Debra S. Barringer | 3/8/2023
PER0046238 | Scientific | Wendy Knight | 3/9/2023
PER0046277 | Scientific | Hannah Donaghe | 3/9/2023
PER0028403 | Scientific | Darrell Steely | 3/9/2023
PER0057586 | Scientific | Dwayne Oberhoff | 3/9/2023
PER0044685 | Scientific | Oregon Zoo | 3/13/2023
PER0044970 | Scientific | Monterey Bay Aquarium Foundation | 3/13/2023
PER0036307 | Scientific | Kimberly Paradis | 3/13/2023
PER0046334 | Scientific | Steve Howard | 3/13/2023
PER0046132 | Scientific | Amy Palkovic | 3/14/2023
PER0028351 | Scientific | Bryan Mori | 3/14/2023
PER0042665 | Scientific | Griffith Wildlife Biology | 3/28/2023
PER0057234 | Scientific | Robert Patton | 3/28/2023
PER0038601 | Scientific | Monica M. Jacinto | 3/28/2023
PER0040959 | Scientific | Stillwater Sciences | 3/30/2023
PER0046254 | Scientific | Stephanie M. Seay | 4/3/2023
PER0055978 | Scientific | East Bay Municipal Utility District | 4/5/2023
PER0039806 | Scientific | Jennifer Michaud-Laird | 4/5/2023
PER0027498 | Scientific | Bumgardner Biological Consulting | 4/5/2023
PER0040490 | Scientific | Anna L. Erway | 4/5/2023
PER2198850 | Scientific | Cullen A Wilkerson | 4/6/2023
PER0040606 | Scientific | Benjamin Carter | 4/6/2023
PER0050170 | Scientific | Brian D. Woodward | 4/6/2023
PER0050222 | Scientific | Karly Moore | 4/21/2023
PER0050221 | Scientific | Carolyn Martus | 4/21/2023
PER0046227 | Scientific | Advanced Solutions for Earth's Future | 4/21/2023
PER0046260 | Scientific | USDA Forest Service | 4/24/2023
PER0057549 | Scientific | Kyla Garten | 4/24/2023
068799 | Scientific | Mikael Romich | 4/25/2023
PER0057553 | Scientific | Steven Morris | 4/25/2023
PER0057230 | Scientific | Melissa Blundell | 4/25/2023
PER1439930 | Scientific | U.S. Geological Survey | 4/25/2023
PER0046182 | Scientific | Ethan Ripperger | 4/27/2023
PER0046263 | Scientific | Vollmar Natural Lands Consulting | 5/1/2023
PER0045275 | Scientific | Kleinfelder | 5/1/2023
PER0046274 | Scientific | Peter Trenham | 5/1/2023
PER1620290 | Scientific | Spring Strahm | 5/5/2023
PER0057528 | Scientific | Condor Country Consulting, Inc | 5/9/2023
PER0050169 | Scientific | Tanner Lichty | 5/9/2023
PER0057237 | Scientific | Steven Pruett | 5/9/2023
PER0057271 | Scientific | William C. Webb, Jr | 5/9/2023
PER0121306 | Scientific | Matthew Fogarty | 5/9/2023
PER0121456 | Scientific | Tara Collins | 5/9/2023
PER0050210 | Scientific | Carol Witham | 5/19/2023
PER2479895 | Scientific | Dale Powell | 6/6/2023
PER0050065 | Scientific | Copper Mountain College | 6/14/2023
PER0046310 | Scientific | California State Parks—Channel Coast District | 6/15/2023
PER0050241 | Scientific | Rancho Santa Ana Botanic Garden | 6/16/2023
PER2424938 | Scientific | Westland Resources, Inc | 6/30/2023
PER0057236 | Scientific | Sophie Siegel | 7/6/2023
PER1628411 | Scientific | Mira Falicki | 7/6/2023
PER1628412 | Scientific | Frog Mouth Ecological Services | 7/6/2023
PER2367455 | Scientific | Miles Hartnett | 7/6/2023
PER0057550 | Scientific | Katherine McLean | 7/7/2023
PER0055445 | Scientific | Thomas Ryan | 7/12/2023
PER0057554 | Scientific | Susan Scatolini | 7/19/2023
PER0057582 | Scientific | Ron Francis, Jr | 7/19/2023
PER0046273 | Scientific | Manna Warburton | 7/19/2023
PER0137106 | Scientific | Jonathan Feenstra | 7/19/2023
PER0057557 | Scientific | Brennan C. Vettes | 7/19/2023
PER0132767 | Scientific | Justin Wood | 7/19/2023
PER0997674 | Scientific | Ian Maunsell | 7/19/2023
PER0152185 | Scientific | Christine Harvey | 7/19/2023
PER0057543 | Scientific | Ruben Ramirez | 7/19/2023
PER0046431 | Scientific | WSP USA Environment & Infrastructure, Inc | 7/19/2023
PER0057544 | Scientific | Valente Ayala | 7/19/2023
PER0133425 | Scientific | Los Angeles World Airports | 7/24/2023
PER0040403 | Scientific | Zoological Society of San Diego | 7/24/2023
PER0121441 | Scientific | Anna Touchstone | 7/27/2023
PER0046336 | Scientific | Olofson Environmental, Inc | 7/27/2023
PER0034725 | Scientific | Emilie Strauss | 7/27/2023
PER0032679 | Scientific | Avocet Research Associates | 7/27/2023
PER2385623 | Scientific | Alex Berryman | 7/27/2023
PER2385624 | Scientific | Ian Jackson | 7/27/2023
PER0057548 | Scientific | Laura Burris | 7/28/2023
PER0046343 | Scientific | Zoological Society of San Diego | 8/3/2023
PER2452405 | Scientific | Vipul Joshi | 8/10/2023
PER0057551 | Scientific | Jeff Kidd | 8/10/2023
PER0057267 | Scientific | Blake Claypool | 8/10/2023
PER0165960 | Scientific | Ingrid Eich | 8/10/2023
PER0137107 | Scientific | Michael Galloway | 8/10/2023
PER2453199 | Scientific | Griffin Brungraber | 8/10/2023
PER2344464 | Scientific | Michael C. Couffer | 8/10/2023
PER0046542 | Scientific | Douglas Allen | 8/10/2023
PER0057556 | Scientific | Ryan Winkleman | 8/10/2023
PER0051965 | Scientific | Steven Chen | 8/10/2023
PER0089185 | Scientific | Donald W. Alley | 8/14/2023
PER0050068 | Scientific | David Jacobs | 8/14/2023
PER2344252 | Scientific | ICF Jones & Stokes, Inc | 8/15/2023
PER0046270 | Scientific | National Park Service, Pinnacles National Park | 8/17/2023
PER0057273 | Scientific | Brian T. Pittman | 8/29/2023
PER0050191 | Scientific | Jeffery T. Wilcox | 8/29/2023
PER1656790 | Scientific | Michael Scaffidi | 8/29/2023
PER2452406 | Scientific | Eli Rose | 8/29/2023
PER2434485 | Scientific | David Wolff | 8/30/2023
PER2426711 | Scientific | Bonnie Peterson | 8/30/2023
PER0046272 | Scientific | Mesa Biological, LLC | 8/30/2023
PER0057269 | Scientific | Natalie Reeder | 8/30/2023
PER1628413 | Scientific | Mario E. Gaytan | 8/30/2023
PER2371117 | Scientific | Lora Roame | 8/30/2023
PER0050226 | Scientific | ECORP Consulting, Inc | 9/5/2023
PER0057261 | Scientific | Dalton Stanfield | 9/5/2023
PER0120424 | Scientific | John Howard | 9/6/2023
PER0122085 | Scientific | Allison Rudalevige | 9/6/2023
PER2453183 | Scientific | Taylor Dee | 9/6/2023
PER2449673 | Scientific | Thea Wang | 9/6/2023
PER2453506 | Scientific | Markus Spiegelberg | 9/6/2023
PER2469753 | Scientific | John Dicus | 9/6/2023
PER1383320 | Scientific | Conservation Society of California | 9/6/2023
PER2344367 | Scientific | Jonathan Aguayo | 9/6/2023
PER0057547 | Scientific | Shelley M. Jaramillo | 9/6/2023
PER0121458 | Scientific | Donald W. Hardeman Jr | 9/6/2023
PER0211375 | Scientific | Britney A. Schultz | 9/6/2023
PER2385795 | Scientific | Peter Y. Drobny | 9/6/2023
PER0046425 | Scientific | Mantech SRS Technologies, Inc | 9/7/2023
PER2481657 | Scientific | Jennifer Sexton | 9/7/2023
PER2452942 | Scientific | Bureau of Land Management—Mother Lode Field Office | 9/19/2023
PER2101274 | Scientific | Paul Morrissey | 9/19/2023
PER2478054 | Scientific | LSA Associates, Inc | 9/19/2023
PER1171011 | Scientific | David Faulkner | 9/19/2023
PER2380360 | Scientific | Sarah J. Yates | 9/19/2023
PER2381586 | Scientific | National Park Service Yosemite National Park | 9/19/2023
PER2421919 | Scientific | Patrick Kong | 9/19/2023
PER0057558 | Scientific | Cynthia Hartley | 9/25/2023
PER0057583 | Scientific | McCormick Biological, Inc | 9/27/2023
PER2372350 | Scientific | Steven Lee | 9/27/2023
PER0048094 | Scientific | Sequoia Park Zoo—City of Eureka | 10/31/2023
PER2805325 | Scientific | California Department of Fish and Wildlife | 11/7/2023
069171 | Scientific | National Park Service, Santa Monica Mountains National Recreation Area | 12/11/2023
PER0268927 | SHA | Craig Blencowe | 1/17/2023
17874C | SHA | Las Vegas Valley Water District | 3/30/2023
PER2965862 | SHA | USFWS—Carlsbad Fish and Wildlife Office | 6/30/2023

Availability of Documents

You may request copies of original application materials, along with public comments we received, from the offices that issued the permits (see contact information for appropriate regions, above). Documents and other information submitted with the applications are available for review subject to the requirements of the Privacy Act (5 U.S.C. 552a) and Freedom of Information Act (5 U.S.C. 552), by any party who submits a written request for a copy of such documents.

Authority

We provide this notice under the authority of section 10 of the ESA (16 U.S.C. 1531 et seq.).

Ya-Wei Li,
Assistant Director for Ecological Services.

[FR Doc. 2024-26782 Filed 11-15-24; 8:45 am]

BILLING CODE 4333-15-P